DEPARTMENT OF VETERANS AFFAIRS

[OMB Control No. 2900-0128]

Agency Information Collection Activities Under OMB Review

AGENCY: Veterans Benefits Administration, Department of Veterans Affairs.

ACTION: Notice.

SUMMARY: In compliance with the Paperwork Reduction Act (PRA) of 1995 (44 U.S.C. 3501-21) this notice announces that the Veterans Benefits Administration (VBA), Department of Veterans Affairs, has submitted the collection of information abstracted below to the Office of Management and Budget (OMB) for review and comment. The PRA submission describes the nature of the information collection and its expected cost and burden and includes the actual data collection instrument.

DATES: Comments must be submitted on or before May 26, 2006.

FOR FURTHER INFORMATION CONTACT: Denise McLamb, Records Management Service (005E3), Department of Veterans Affairs, 810 Vermont Avenue, NW., Washington, DC 20420, (202) 565-8374, FAX (202) 565-6950 or e-mail: denise.mclamb@mail.va.gov. Please refer to “OMB Control No. 2900-0128.”

Send comments and recommendations concerning any aspect of the information collection to VA's OMB Desk Officer, OMB Human Resources and Housing Branch, New Executive Office Building, Room 10235, Washington, DC 20503 (202) 395-7316. Please refer to “OMB Control No. 2900-0128” in any correspondence.

SUPPLEMENTARY INFORMATION:

Titles:

a. Notice of Lapse—Government Life Insurance, VA Form 29-389.

b. Application for Reinstatement, VA Form 29-389-1.

OMB Control Number: 2900-0128.

Type of Review: Existing collection in use without an OMB control number.

Abstract: VA Forms 29-389 and 29-389-1 are used to inform claimants that their government life insurance has lapsed or will lapse due to non payment of premiums. The claimant must complete the application to reinstate the insurance and to elect to pay the past due premiums. VA uses the data collected to determine the claimant's eligibility for reinstatement of such insurance.

An agency may not conduct or sponsor, and a person is not required to respond to a collection of information unless it displays a currently valid OMB control number. The Federal Register Notice with a 60-day comment period soliciting comments on this collection of information was published on December 16, 2005 at page 74867.

Affected Public: Individuals or households.

Estimated Annual Burden: 4,459 hours.

a. VA Form 29-389—3,399 hours.

b. VA Form 29-389-1—1,060 hours.

Estimated Average Burden Per Respondent:

a. VA Form 29-389—12 minutes.

b. VA Form 29-389-1—10 minutes.

Frequency of Response: On occasion.

Estimated Number of Respondents: 23,352.

a. VA Form 29-389—16,993.

b. VA Form 29-389-1—6,359.

Dated: April 13, 2006.
By direction of the Secretary:
Denise McLamb,
Program Analyst, Records Management Service.

[FR Doc. E6-6252 Filed 4-25-06; 8:45 am]

BILLING CODE 8320-01-P